DEPARTMENT OF JUSTICE

Antitrust Division

Notice Pursuant to the National Cooperative Research and Production Act of 1993—Consortium for Energy, Environment and Demilitarization

Notice is hereby given that on January 31, 2017, pursuant to Section 6(a) of the National Cooperative Research and Production Act of 1993, 15 U.S.C. 4301 et seq. (“the Act”), Consortium for Energy, Environment and Demilitarization (“CEED”) has filed written notifications simultaneously with the Attorney General and the Federal Trade Commission disclosing changes in its membership. The notifications were filed for the purpose of extending the Act's provisions limiting the recovery of antitrust plaintiffs to actual damages under specified circumstances. Specifically, Accurate Energetic System, McEwen, TN; AGEISS Inc., Longmont, CO; Alion Science and Technology Corporation, Huntsville, AL; Allied Bastion LLC, Tallahassee, FL; AM General, South Bend, IN; ARES, Inc., Port Clinton, OH; Artemis Electronics LLC, Prospect, KY; Atlantic Diving Supply, Inc. Virginia Beach, VA; Berg Manufacturing, Inc., Spokane, WA; BioSAFE Engineering, LLC, Indianapolis, IN; BluEyeQ, LLC, Waxhaw, NC; The Board of Trustees University of AL; Tuscaloosa, AL; Brugh Industrial Engineering LLC, Greenfield, IN; Concurrent Technologies Corporation, Picatinny, NJ; Conflict Kinetics Corporation, Sterling, VA; Connect 9 Solutions, Falls Church, VA; CORTEK, Inc., Fredericksburg, VA; Dawson Enterprises, LLC, Honolulu, HI; Day & Zimmermann, Inc., Philadelphia, PA; Design Mill, Inc., Dubuque, IA; DuPont Protection Solutions, Richmond, VA; EaglePicher Technologies, LLC, Joplin, MO; Eaton Corporation, Menomonee Falls, WI; Eco Burn Inc./Eco Waste Solutions, Burlington, ON; Enercon Systems, Inc., Elyria, OH; Fairwinds Technologies, Inc., Annapolis, MD; Frontier Technology, Inc., Goleta, CA; Fulcrum IT Services, LLC, Centreville, VA; Garud Technology Services, Inc., Ellicott City, MD; Gehring Corporation, Farmington Hills, MI; General Dynamics Ordnance and Tactical Systems, Inc., St. Petersburg, FL; General Technical Services, LLC, Wall, NJ; Granite Environmental, Inc., Sebastian, FL; Guild Associates, Inc., Dublin, OH; High Energy Metals, Inc., Sequim, WA; Humber-Garick Consulting Engineers, Fort Walton Beach, FL; Interoptek, Inc., Huntsville, AL; Intuitive Research and Technology Corporation, Huntsville, FL; Kestrel Corporation, Albuquerque, NM; Leidos, Inc., San Antonio, TX; LkM Solutions, LLC, Sterling Heights, MI; Lockheed Martin Corporation; King of Prussia, PA; Logistic Services International, Inc., Jacksonville, FL; Long Wave Inc., Oklahoma City, OK; Louisiana Tech University, Ruston, LA; Mag Decisive Solutions International Consulting, LLC, Woodbridge, VA; Management Services Group, Inc. DBA Global Technical Systems, Virginia Beach, VA; Merrill Technologies Group, Saginaw, MI; Milwaukee School of Engineering, Milwaukee, WI; New Jersey Innovation Institute, Newark, NJ; Nishati, Inc., McLean, VA; North Carolina State, Raleigh, NC; OVC Engineered Solutions LLC, Stearns, KY; Palladium Energy, Inc., Woodbridge, IL; Parsons Government Services, Inc., Richmond, VA; Paul Boye Incorporated, Havre de Grace, MD; Pennram Diversified Manufacturing Corporation, Williamsport, PA; Peregrine Technical Solutions LLC, Yorktown, VA; Polestar Technologies, Inc., Needham Heights, MA; Point Blank Enterprises, Inc. dba The Protective Group, Miami Lakes, FL; Portage, Inc., Idaho Falls, ID; Potential Energy, DC, Falls Church, VA; Power Ten, Inc., Kirkland, WA; Protect the Force, Inc., Alpharetta, GA; Protonex Technology Corporation, Southborough, MA; Quantum Signal LLC, Saline, MI; R3 Strategic Support Group, Inc., Coronado, CA; ReadyOne Industries, Inc., El Paso, TX; REK Associates, Chantilly, VA; Savit Corporation, Rockaway, NJ; Serco Inc., The Shenton Group, Inc., Gladwin, MI; Fairborn, OH; Shoulder2Shoulder, Inc., Bluemont, VA; Source America, Vienna, VA; Soukos Robots Demil USA, LLC, Santa Ynez, CA; Stevens Institute of Technology, Hoboken, NJ; Strategic Fitness, LLC, McLean, VA; Strategos Consulting, LLC, Coronado, CA; Stratom, Inc., Boulder, CO; Terragon Environmental Technologies, Inc., Montreal, CANADA; TerranearPMC, LLC, Baltimore, MD; Tex-Shield, Inc., Bethesda, MD; The Shenton Group, Gladwin, MI; The University of Alabama at Huntsville, Huntsville, AL; The University of North Carolina at Charlotte, Charlotte, NC; The University of Texas at Austin, Austin, TX; UEC Electronics, LLC, Hanahan, SC; Universal Technical Resource Services, Inc., Cherry Hill, NJ; University of Dayton Research Institute, Dayton, OH; University of Maine, Orono, ME; Veda Associates, Inc., Roswell, GA; Velocity Technology Partners LLC, Rockville, MD; Vigor Industrial, Seattle, WA; Visible Assets, Inc. Stratham, NH; W.L. Gore and Associates, Elkton, MD, have been added as parties to this venture.

Also, Camgian Microsystems Corporation, Starkville, MS; Capital Technology Group, Washington, DC; Chemring North America, Chester Township, PA; DKJ Technologies, Dayton, OH; Engineering and Management Executives, Inc.(EME), Alexandria, VA; Erigo Technologies, LLC, Enfield, NH; EXPLO Systems, Inc., Minden, LA; General Atomics, San Diego, CA; Group 4 Labs, Fremont, CA; HBM nCode Federal LLC, Starkville, MS; Hoboken Brownstone Company, Hoboken, NJ; IPS Custom Automation, Grand Prairie, TX; Humanistic Robotics, Inc., Bristol, PA; Malocom Pirnie, Inc., Baltimore, MD; MSE Technology Applications, Butte, MT; Primis Technologies LLC, Washington, DC; Real New Energy, Alexandria, VA; Stella Group LTD, Washington, DC; Technical Consultants, Inc., Marshall, TX; Textronics, Inc., Wilmington, DE; TPL Inc., Albuquerque, NM; Ultralife Corporation, Newark, NY; and University of Rhode Island, Kingston, RI, have withdrawn as parties to this venture.

No other changes have been made in either the membership or planned activity of the group research project. Membership in this group research project remains open, and CEED intends to file additional written notifications disclosing all changes in membership.

On February 14, 2011, CEED filed its original notification pursuant to Section 6(a) of the Act. The Department of Justice published a notice in the Federal Register pursuant to Section 6(b) of the Act on March 25, 2011.

Patricia A. Brink,
Director of Civil Enforcement, Antitrust Division.

[FR Doc. 2017-05259 Filed 3-15-17; 8:45 am]

BILLING CODE P